INTERNATIONAL TRADE COMMISSION

[Investigation No. 731-TA-891 (Review)]

Foundry Coke From China

Determination

On the basis of the record ¹ developed in the subject five-year review, the United States International Trade Commission (Commission) determines, pursuant to section 751(c) of the Tariff Act of 1930 (19 U.S.C. 1675(c)) (the Act), that revocation of the antidumping duty order on foundry coke from China would be likely to lead to continuation or recurrence of material injury to an industry in the United States within a reasonably foreseeable time.

¹ The record is defined in § 207.2(f) of the Commission's Rules of Practice and Procedure (19 CFR § 207.2(f)).

Background

The Commission instituted this review on August 1, 2006 (71 FR 43518) and determined on November 6, 2006 that it would conduct an expedited review (71 FR 67161, November 20, 2006).

The Commission transmitted its determination in this review to the Secretary of Commerce on December 20, 2006. The views of the Commission are contained in USITC Publication 3897 (December 2006), entitled Foundry Coke From China: Investigation No. 731-TA-891 (Review).

By order of the Commission.
Issued: December 20, 2006.
Marilyn R. Abbott,
Secretary to the Commission.

[FR Doc. E6-22181 Filed 12-27-06; 8:45 am]

BILLING CODE 7020-02-P